COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action deletes products from the Procurement List previously furnished by nonprofit agencies employing persons who are blind or have other severe disabilities.

DATES: Date added to and deleted from the Procurement List: June 27, 2021.

ADDRESSES: Committee for Purchase From People Who Are Blind or Severely Disabled, 1401 S Clark Street, Suite 715, Arlington, Virginia, 22202-4149.

FOR FURTHER INFORMATION CONTACT: Michael R. Jurkowski, Telephone: (703) 785-6404, or email CMTEFedReg@AbilityOne.gov.

SUPPLEMENTARY INFORMATION:

Deletions

On 4/23/2021, the Committee for Purchase From People Who Are Blind or Severely Disabled published notice of proposed deletions from the Procurement List. This notice is published pursuant to 41 U.S.C. 8503(a)(2) and 41 CFR 51-2.3.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following products are deleted from the Procurement List:

Product(s)

NSN(s)—Product Name(s):

5340-01-107-3382—Strap, Webbing, 30″ x 1″

5340-01-190-2472—Strap, Webbing, 254″ x 1″

Designated Source of Supply: Huntsville Rehabilitation Foundation, Huntsville, AL

Contracting Activity: DLA Troop Support, Philadelphia, PA

NSN(s)—Product Name(s):

6520-00-935-1007—Floss, Dental, Extra Fine, 100 yards, White

6520-01-063-6875—Floss, Dental, Unwaxed, 200 Yards, White

Contracting Activity: DLA Troop Support, Philadelphia, PA

NSN(s)—Product Name(s):

7530-00-244-4035—Paper, Carbon, Typewriter, 8½″ x 11″

Designated Source of Supply: East Texas Lighthouse for the Blind, Tyler, TX

Contracting Activity: GSA/FAS Admin SVCS Acquisition BR(2, New York, NY

NSN(s)—Product Name(s):

7520-01-511-7935—Highlighter, Dry-Lighter, Yellow

7520-01-451-9179—Pen, Ballpoint, Retractable, Essential LVX, Black, Fine Point

Designated Source of Supply: Industries for the Blind and Visually Impaired, Inc., West Allis, WI

Contracting Activity: GSA/FAS Admin SVCS Acquisition BR(2, New York, NY

NSN(s)—Product Name(s):

MR 13100—Baking Value Pack

Designated Source of Supply: Winston-Salem Industries for the Blind, Inc., Winston-Salem, NC

Contracting Activity: Military Resale-Defense Commissary Agency

NSN(s)—Product Name(s):

7520-01-658-0096—Pen, Gel, Stick, Erasable, Blue Gel Ink, .5mm

Designated Source of Supply: West Texas Lighthouse for the Blind, San Angelo, TX

Contracting Activity: GSA/FAS Admin SVCS Acquisition BR(2, New York, NY

NSN(s)—Product Name(s):

7530-01-600-2014—Notebook, Spiral Bound, Biobased Bagasse Paper, 8½″ x 11″, 200 sheets, College Rule, White

Designated Source of Supply: Winston-Salem Industries for the Blind, Inc., Winston-Salem, NC

Contracting Activity: GSA/FAS Admin SVCS Acquisition BR(2, New York, NY

Michael R. Jurkowski,
Deputy Director, Business & PL Operations.

[FR Doc. 2021-11310 Filed 5-27-21; 8:45 am]

BILLING CODE 6353-01-P